DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species. This notice is provided pursuant to section 10(c) of the Endangered Species Act of 1973, as amended (16 U.S.C. 1531, et seq.).

DATES: Written data or comments should be submitted to the Regional Director, U.S. Fish and Wildlife Service, Ecological Services, 1 Federal Drive, Fort Snelling, Minnesota 55111-4056, and must be received on or before April 25, 2005.

FOR FURTHER INFORMATION CONTACT: Mr. Peter Fasbender, (612) 713-5343.

SUPPLEMENTARY INFORMATION: Permit Number: TE100141.

Applicant: Melissa Yanek, Madison, Wisconsin.

The applicant requests a permit to take the Karner blue butterfly (Lycaeides melissa samuelis) in Wisconsin. The scientific research is aimed at enhancement of survival of the species in the wild.

Permit Number: TE100143.

Applicant: Devetta Hill, Zanesfield, Ohio.

The applicant requests a permit to take the Indiana bat (Myotis sodalis), gray bat (M. grisescens), and Virginia big-eared bat (Corynorhinus townsendii virginianus) throughout Ohio. The scientific research is aimed at enhancement of survival of the species in the wild.

Permit Number: TE100148.

Applicant: Bradley Steffen, Carbondale, Illinois.

The applicant requests a permit to take the Indiana bat (Myotis sodalis) throughout Illinois. The scientific research is aimed at enhancement of survival of the species in the wild.

Permit Number: TE100150.

Applicant: Neil Bossart, Pittsburgh, Pennsylvania.

The applicant requests a permit to take the Indiana bat (Myotis sodalis) throughout seven states within U.S. Fish and Wildlife Service Region 3. The scientific research is aimed at enhancement of survival of the species in the wild.

Permit Number: TE100155.

Applicant: Sanders Environmental Inc., Centre Hall Pennsylvania.

The applicant requests a permit to take the Indiana bat (Myotis sodalis), gray bat (M. grisescens), and Virginia big-eared bat (Corynorhinus townsendii virginianus) throughout seven states within U.S. Fish and Wildlife Service Region 3. The scientific research is aimed at enhancement of survival of the species in the wild.

Permit Number: TE100159.

Applicant: Missouri Botanical Garden, St. Louis, Missouri.

The applicant requests a permit to take the following species: Cumberland false rosemary (Conradina verticillata), Cumberland stichwort (Arenaria cumberlandensis), Virginia spirea (Spiraea virginiana), Eggert's sunflower (Helianthus eggertii), Missouri bladderpod (Lesquerella filiformis), Price's potato bean (Apios priceana), Nevada rockcress (Arabis perstellata), Leafy prairie-flower (Dalea foliosa), Tennessee yellow-eyed grass (Xyris tennesseensis), Guthries ground plum (Astragalus bibullatus), and Tennessee purple coneflower (Echinacea tennesseensis). The applicant intends to collect seeds from the listed plant species within National Park Service properties within Alabama, Kentucky, Mississippi, Missouri, and Tennessee. The scientific research is aimed at enhancement of survival of the species in the wild.

Permit Number: TE101191.

Applicant: Russell A. Benedict, Pella, Iowa.

The applicant requests a permit to take the Indiana bat (Myotis sodalis) throughout Iowa. The scientific research is aimed at enhancement of survival of the species in the wild.

Permit Number: TE101192.

Applicant: Arthur Howard, Indiana Army National Guard, Edinburgh, Indiana.

The applicant requests a permit to take the Indiana bat (Myotis sodalis) at Camp Atterbury, Indiana. The scientific research is aimed at enhancement of survival of the species in the wild.

Permit Number: TE101193.

Applicant: Robert R. Kiser, Whitesburg, Kentucky.

The applicant requests a permit to take the Indiana bat (Myotis sodalis), gray bat (M. grisescens), Virginia big-eared bat (Corynorhinus townsendii virginianus), and the Blackside dace (Phoxinus cumberlandensis) throughout the species range. The scientific research is aimed at enhancement of survival of the species in the wild.

Permit Number: TE101297.

Applicant: Catherine E. Brown McCall, Georgetown University, Washington, DC.

The applicant requests a permit to take the Karner blue butterfly (Lycaeides melissa samuelis) in Wisconsin. The scientific research is aimed at enhancement of survival of the species in the wild.

Permit Number: TE091328.

Applicant: John Chenger, Bat Conservation and Management, Inc., Carlisle, Pennsylvania.

The applicant requests a permit amendment to take the Indiana bat (Myotis sodalis) throughout Illinois, Kentucky, Missouri, North Carolina, South Carolina, and Tennessee. The scientific research is aimed at enhancement of survival of the species in the wild.

Dated: March 14, 2005.
Jeffery C. Gosse,
Acting Assistant Regional Director, Ecological Services, Region 3, Fort Snelling, Minnesota.

[FR Doc. 05-5800 Filed 3-23-05; 8:45 am]

BILLING CODE 4310-55-P